DEPARTMENT OF COMMERCE

International Trade Administration

[A-557-815, A-549-830, A-552-816]

Welded Stainless Pressure Pipe From Malaysia, Thailand, and the Socialist Republic of Vietnam: Postponement of Preliminary Determinations of Antidumping Duty Investigations

AGENCY: Import Administration, International Trade Administration, Department of Commerce.

DATES: October 22, 2013.

FOR FURTHER INFORMATION CONTACT: Charles Riggle (Malaysia), Brandon Farlander (Thailand), or Drew Jackson (Socialist Republic of Vietnam), AD/CVD Operations, Office 4, Import Administration, International Trade Administration, U.S. Department of Commerce, 14th Street and Constitution Avenue NW., Washington, DC 20230, telephone: (202) 482-0650, (202) 482-0182, or (202) 482-4406, respectively.

SUPPLEMENTARY INFORMATION:

Postponement of Preliminary Determinations

On June 12, 2013, the Department of Commerce (the “Department”) published a notice of initiation of antidumping duty investigations of welded stainless pressure pipe from Malaysia, Thailand, and the Socialist Republic of Vietnam.¹ The notice of initiation stated that the Department, in accordance with section 733(b)(1)(A) of the Tariff Act of 1930, as amended (the “Act”), and 19 CFR 351.205(b)(1), would issue its preliminary determinations for these investigations, unless postponed, no later than 140 days after the date of the initiation. The preliminary determinations of these antidumping duty investigations are currently due no later than October 23, 2013.

¹ See Welded Stainless Pressure Pipe From Malaysia, Thailand, and the Socialist Republic of Vietnam: Initiation of Antidumping Duty Investigations, 78 FR 35253 (June 12, 2013).

On September 19, 2013, more than 25-days before the scheduled preliminary determination, Bristol Metals, Felker Brothers, and Outokumpu Stainless Pipe (“Petitioners”), pursuant to section 733(c)(1)(A) of the Act and 19 CFR 351.205(e), made a timely request for a 50-day postponement of the preliminary determinations in these investigations.² On September 24, 2013, Petitioners amended their request, citing the need for additional time. Specifically, in the investigations of merchandise from Malaysia and Thailand, Petitioners noted that they planned to pursue an allegation of sales below cost of production and more time is needed for such an investigation, while in the investigation of merchandise from the Socialist Republic of Vietnam, they noted that the normal value analysis is complicated, involving issues regarding the factors of production and selection of surrogate values.³

² See Letters from Petitioners to the Secretary of Commerce, “Welded Stainless Steel Pressure Pipe From Malaysia: Request for Extension of Preliminary Determination,” “Welded Stainless Steel Pressure Pipe From Thailand: Request for Extension of Preliminary Determination,” and “Welded Stainless Steel Pressure Pipe From Vietnam: Request for Extension of Preliminary Determination,” dated September 19, 2013.

³ See Letters from Petitioners to the Secretary of Commerce, “Welded Stainless Steel Pressure Pipe From Malaysia: Amended Request for Extension of Preliminary Determination,” “Welded Stainless Steel Pressure Pipe From Thailand: Amended Request for Extension of Preliminary Determination,” and “Welded Stainless Steel Pressure Pipe From Vietnam: Amended Request for Extension of Preliminary Determination,” dated September 24, 2013.

The Department has found no compelling reasons to deny the request and, therefore, in accordance with section 733(c)(1)(A) of the Act, the Department is postponing the deadline for the preliminary determinations to no later than 190 days after the date on which it initiated these investigations. Therefore, the new deadline for issuing these preliminary determinations is December 12, 2013.

This notice is issued and published pursuant to section 733(c)(2) of the Act and 19 CFR 351.205(f)(1).

Dated: September 30, 2013.
Paul Piquado,
Assistant Secretary for Import Administration.

[FR Doc. 2013-24709 Filed 10-21-13; 8:45 am]

BILLING CODE 3510-DS-P